DEPARTMENT OF ENERGY

Federal Energy Regulatory Commission

Combined Notice of Filings #1

June 19, 2008.

Take notice that the Commission received the following electric rate filings:

Docket Numbers: ER96-2830-008.

Applicants: Washington Gas Energy Services, Inc.

Description: Washington Gas Energy Services, Inc in compliance with Order 697 and 697-A submits their request for Category I Status.

Filed Date: 06/18/2008.

Accession Number: 20080619-0113.

Comment Date: 5 p.m. Eastern Time on Wednesday, July 09, 2008.

Docket Numbers: ER99-2948-014; ER00-2918-013; ER00-2917-013; ER05-261-006; ER01-1654-015; ER02-2567-013; ER05-728-006; ER04-485-010; ER01-556-012; ER07-247-005; ER07-245-005; ER07-244-005.

Applicants: Baltimore Gas and Electric Company; Constellation Power Source Generation LLC; Calvert Cliffs Nuclear Power Plant, Inc.; Constellation Energy Commodities Group; Nine Mile Point Nuclear Station, LLC; Constellation NewEnergy, Inc.; Constellation Energy Commodities Group Maine, LLC; R.E. Ginna Nuclear Power Plant, LLC; Handsome Lake Energy, LLC; Raven One, LLC; Raven Two, LLC; Raven Three, LLC.

Description: Constellation MBR Entities submits a notice of change in status regarding the recent acquisition of a 200 MW generating facility in West Valley, Utah by their affiliate, CER Generation II, LLC.

Filed Date: 06/17/2008.

Accession Number: 20080619-0015.

Comment Date: 5 p.m. Eastern Time on Tuesday, July 08, 2008.

Docket Numbers: ER06-864-011; ER07-1356-003; ER07-1112-002; ER07-1113-002; ER07-1115-002; ER07-1116-002; ER07-1117-002; ER07-1358-003; ER07-1118-002; ER07-1119-002; ER07-1120-002; ER07-1122-002; ER06-1543-008; ER00-2885-018; ER01-2765-017; ER05-1232-010; ER02-1582-015; ER08-148-002; ER02-1785-016; ER02-2102-017; ER03-1283-012.

Applicants: Bear Energy LP; BE Alabama LLC; BE Allegheny LLC; BE CA LLC; BE Colquitt LLC; BE Ironwood LLC; BE KJ LLC; BE Louisiana LLC; BE Rayle LLC; BE Red Oak LLC; BE Satilla LLC; BE Walton LLC; Brush Cogeneration Partners; Cedar Brakes I, L.L.C.; Cedar Brakes II, LLC; JPMorgan Ventures Energy Corporation; Mohawk River Funding IV, L.L.C.; Thermo Cogeneration Partnership LP; Utility Contract Funding, L.L.C.; Vineland Energy LLC.

Description: JP Morgan Affiliates informs the Commission of a non-material departure from the characteristics relied upon pursuant to Order 697 and 697-A.

Filed Date: 06/16/2008.

Accession Number: 20080619-0014.

Comment Date: 5 p.m. Eastern Time on Monday, July 07, 2008.

Docket Numbers: ER06-1474-006.

Applicants: PJM Interconnection, L.L.C.

Description: PJM Interconnection, LLC submits their third compliance filing to further clarify its economic transmission planning process and amend Schedule 6 of the Amended and Restated Operating Agreement.

Filed Date: 06/16/2008.

Accession Number: 20080619-0013.

Comment Date: 5 p.m. Eastern Time on Monday, July 07, 2008.

Docket Numbers: ER07-478-007.

Applicants: Midwest Independent Transmission System Operator, Inc.

Description: Midwest Independent Transmission System Operator, Inc submits revisions to their Open Access Transmission and Energy Markets Tariff, in compliance with FERC's 5/16/08 order.

Filed Date: 06/16/2008.

Accession Number: 20080617-0106.

Comment Date: 5 p.m. Eastern Time on Monday, July 07, 2008.

Docket Numbers: ER08-937-001.

Applicants: Westar Energy, Inc.

Description: Westar Energy, Inc submits Substitute Original Sheet 2 of the Supplemental Generation Agreement.

Filed Date: 06/18/2008.

Accession Number: 20080619-0012.

Comment Date: 5 p.m. Eastern Time on Wednesday, July 09, 2008.

Docket Numbers: ER08-1113-000.

Applicants: California Independent System Operator Corporation.

Description: California Independent System Operator Corp submits proposed tariff revisions to the current ISO Tariff and the Market Redesign and Technology Upgrade Tariff.

Filed Date: 06/17/2008.

Accession Number: 20080619-0017.

Comment Date: 5 p.m. Eastern Time on Tuesday, July 08, 2008.

Docket Numbers: ER08-1114-000.

Applicants: ALLETE, Inc.

Description: ALLETE, Inc requests withdrawal of Second Revised Rate Schedule 179 and 180.

Filed Date: 06/17/2008.

Accession Number: 20080619-0009.

Comment Date: 5 p.m. Eastern Time on Tuesday, July 08, 2008.

Docket Numbers: ER08-1115-000.

Applicants: Northern Virginia Electric Cooperative.

Description: Northern Virginia Electric Cooperative's petition for acceptance of initial rate schedule, waivers and blanket authority.

Filed Date: 06/17/2008.

Accession Number: 20080619-0010.

Comment Date: 5 p.m. Eastern Time on Tuesday, July 08, 2008.

Docket Numbers: ER08-1116-000

Applicants: Midwest Independent Transmission System Operator, Inc.

Description: Midwest Independent Transmission System Operator, Inc submits a Transmission to Transmission Interconnection Agreement with Minnesota Power.

Filed Date: 06/17/2008.

Accession Number: 20080619-0008.

Comment Date: 5 p.m. Eastern Time on Tuesday, July 08, 2008.

Docket Numbers: ER08-1118-000.

Applicants: Southern Company Services, Inc.

Description: Alabama Power Co et al. submits an Amendment Agreement with South Carolina Electric & Gas Company and Southern Companies.

Filed Date: 06/18/2008.

Accession Number: 20080619-0007.

Comment Date: 5 p.m. Eastern Time on Wednesday, July 09, 2008.

Docket Numbers: ER08-1119-000.

Applicants: The American Electric Power Service Corp.

Description: AEP Operating Companies submits the First Revised Interconnection and Local Delivery Service Agreement 1447 with City of Bluffton.

Filed Date: 06/18/2008.

Accession Number: 20080619-0006.

Comment Date: 5 p.m. Eastern Time on Wednesday, July 09, 2008.

Docket Numbers: ER08-1121-000.

Applicants: Royal Bank of Canada.

Description: Application of Royal Bank of Canada for an order accepting Initial Rate Schedule FERC 1, Waiving Regulations, Granting Blanket Approvals and Expedited Action under ER08-1121.

Filed Date: 06/18/2008.

Accession Number: 20080619-0116.

Comment Date: 5 p.m. Eastern Time on Wednesday, July 09, 2008.

Docket Numbers: ER08-1122-000.

Applicants: PacifiCorp.

Description: PacifiCorp submits an Engineering and Procurement Agreement dated 5/28/08 with Green Wing Pacific Energy Corp, designated as Service Agreement 461, Seventh Revised Volume 11 etc.

Filed Date: 06/18/2008.

Accession Number: 20080619-0112.

Comment Date: 5 p.m. Eastern Time on Wednesday, July 09, 2008.

Docket Numbers: ER08-1123-000.

Applicants: Wisconsin Public Service Corporation.

Description: Wisconsin Public Service Corp submits First Revised Sheet 2 et al. to FERC Electric Rate Schedule 78 to the 10/5/07 Dynamic Scheduling Agreement and Intermitten Resource Regulation with Forward Energy LLC, effective 4/1/08.

Filed Date: 06/18/2008.

Accession Number: 20080619-0117.

Comment Date: 5 p.m. Eastern Time on Wednesday, July 09, 2008.

Docket Numbers: ER08-1124-000.

Applicants: California Independent System Operator Corp.

Description: California Independent System Operator Corp's Motion for clarification, or in the alternative, petition for waiver and request for shortened comment period.

Filed Date: 06/17/2008.

Accession Number: 20080619-0118.

Comment Date: 5 p.m. Eastern Time on Tuesday, July 08, 2008.

Take notice that the Commission received the following electric securities filings:

Docket Numbers: ES08-51-000.

Applicants: MDU Resources Group, Inc.

Description: MDU Resources Group, Inc submits an application for authority to issue an additional 6,006,218 shares of Company Common Stock.

Filed Date: 05/30/2008.

Accession Number: 20080603-0083.

Comment Date: 5 p.m. Eastern Time on Friday, June 27, 2008.

Take notice that the Commission received the following open access transmission tariff filings:

Docket Numbers: OA07-19-003; OA07-43-004; ER07-1171-004.

Applicants: Arizona Public Service Company.

Description: Arizona Public Service Company submits further information re its mechanism for distributing the penalties collected for generator and energy imbalances etc under OA07-19 et al.

Filed Date: 06/18/2008.

Accession Number: 20080619-0115.

Comment Date: 5 p.m. Eastern Time on Wednesday, July 09, 2008.

Take notice that the Commission received the following PURPA 210(m)(3) filings:

Docket Numbers: QM08-6-000.

Applicants: Allegheny Power.

Description: Application to Terminate Purchase Obligation.

Filed Date: 06/18/2008.

Accession Number: 20080618-5051.

Comment Date: 5 p.m. Eastern Time on Wednesday, July 16, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-14508 Filed 6-25-08; 8:45 am]

BILLING CODE 6717-01-P